DEPARTMENT OF THE INTERIOR

Bureau of Land Management

[LLCAC09000 L71220000.EU0000 15XL8069TF LVTFB1559610; CACA 54618]

Notice of Realty Action: Proposed Non-Competitive (Direct) Sale of Public Land in Fresno and Monterey Counties, CA

AGENCY: Bureau of Land Management, Interior.

ACTION: Notice of realty action.

SUMMARY: The Bureau of Land Management (BLM), Central Coast Field Office, is considering a direct sale of public land containing 40 acres to Timothy Haley under Sections 203 and 209 of the Federal Land Policy and Management Act (FLPMA) of 1976, as amended, at not less than the fair market value of $149,500.

DATES: Comments must be received by July 25, 2016. The BLM will not hold the public sale prior to August 8, 2016.

ADDRESSES: Comments should be sent to the Bureau of Land Management Central Coast Field Office; Attn: Smith Mountain Project Manager, 940 2nd Ave. Marina, California, 93933-6009 or by email to blm_ca_hollister_fo_email@blm.gov.

FOR FURTHER INFORMATION CONTACT: Christine Sloand, Realty Specialist, Bureau of Land Management, Central Coast Field Office, 831-582-2200. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM will consider a direct sale for the following public lands in Fresno and Monterey counties, California, in accordance with Sections 203 and 209 of FLPMA (43 U.S.C. 1713 and 1719):

Mount Diablo Meridian, California

T. 21 S., R. 13 E.,

Sec. 29, NE¼NW¼.

The area described contains 40 acres.

The direct sale of the public land is in conformance with the BLM's 1984 Hollister Resource Management Plan (RMP) for the Southern Diablo Mountain Range and Central Coast of California, revised in 2007, and is located under Land Tenure Adjustment (LTEN-COM3) on page 3-36 and shown on Figure 27. Regulations at 43 CFR 2710.0-3(a) and 43 CFR 2711.3-3(a) authorize the BLM to utilize a direct sale of public land when a competitive sale is not appropriate and the public interest would best be served by a direct sale. The BLM will dispose of a small, isolated parcel that lacks legal public access making it difficult and uneconomical to manage. The land is not suitable for management by another Federal agency. The BLM will offer the lands to Timothy Haley since he is the adjacent landowner and owns the access to the public land. The other surrounding landowners are not interested in acquiring the public land.

The BLM prepared a mineral potential report, dated July 31, 2014, that concludes there are no known mineral values in the land offered for direct sale. Therefore, the BLM intends to convey the Federal mineral interest simultaneously with the sale. Timothy Haley will be required to pay a $50 non-refundable filing fee for conveyance of the available mineral interests and any associated administrative costs.

Pursuant to the requirements of 43 CFR 2711.1-2(d), publication of this notice in the Federal Register will segregate the land from all forms of appropriation under the public land laws, including the mining laws, except for the sale provisions of FLPMA. Until completion of the sale, the BLM will no longer accept land use applications affecting the public land, except applications for the amendment of previously filed right-of-way applications or existing authorizations to increase the term of the grants in accordance with 43 CFR 2807.15 and 2886.15. The segregative effect will terminate upon issuance of a patent, publication in the Federal Register or a termination of the segregation, or on June 8, 2018 unless extended by the BLM State Director in accordance with 43 CFR 2711.1-2(d) prior to the termination date. The BLM will publish this notice in the Monterey County Weekly newspaper once a week for three consecutive weeks.

The conveyance document will include the following terms, covenants, conditions, and reservations:

A reservation to the United States for ditches and canals constructed by authority of the United States under the Act of August 30, 1890 (43 U.S.C. 945);

The conveyance document will convey the land subject to the following:

1. Valid existing rights of record;

2. A right-of-way CACA 12914 for a communications site granted to the State of California Department of General Services on behalf of the California Department of Forestry and Fire Protection, (FLPMA);

3. An appropriate indemnification clause protecting the United States from claims arising out of the patentee's use, occupancy, or operations on the patented lands; and

4. Additional terms and conditions that the authorized officer deems appropriate.

The BLM will make available the reports pertaining to the land, which include an appraisal, environmental site assessment, and mineral potential report for review at the address above. Until July 25, 2016, interested parties may submit in writing any comments concerning the land being considered for sale, including notifications of any encumbrances or other claims relating to the parcel, to the Field Manager, BLM Central Coast Field Office, at the address above. Comments, including names and street addresses of respondents will be available for public review at the BLM Central Coast Field Office during regular business hours, except holidays.

The BLM State Director or other authorized official of the Department of the Interior will review comments regarding the parcel and may sustain, vacate, or modify this realty action in whole or in part. In the absence of timely field objections, this realty action will become the final determination of the Department of the Interior.

Before including your address, phone number, email address, or other personal identifying information in your comments, the BLM will make your entire comment—including your personal identifying information—publicly available at any time. While you can ask us in your comment to withhold your personal identifying information from public review, we cannot guarantee that we will be able to do so.

Authority: 43 CFR 2710, 2711, and 2720.

Tom Pogacnik,
Deputy State Director, Resources.

[FR Doc. 2016-13555 Filed 6-7-16; 8:45 am]

BILLING CODE 4310-40-P